DEPARTMENT OF THE INTERIOR

Bureau of Land Management

[AZ-P040-2020-1711-DT-1000-241A]

Notice of Intent To Amend the Resource Management Plan for the Sonoran Desert National Monument, Arizona, and Prepare an Associated Environmental Assessment

AGENCY: Bureau of Land Management, Interior.

ACTION: Notice of intent.

SUMMARY: In compliance with the National Environmental Policy Act (NEPA) of 1969, as amended, and the Federal Land Policy and Management Act of 1976, as amended, the Bureau of Land Management (BLM) Lower Sonoran Field Office, Phoenix, Arizona, intends to prepare a Resource Management Plan (RMP) Amendment with an associated Environmental Assessment (EA) for the Sonoran Desert National Monument (SDNM) to address a court order related to livestock grazing on the SDNM. This notice announces the beginning of the scoping process to solicit public comments to identify issues to be addressed in the RMP Amendment/EA.

DATES: This notice initiates the 30-day public scoping process for the RMP Amendment/EA. Comments on issues may be submitted in writing until April 27, 2020. In order to be included in the analysis, all comments must be received prior to the close of the 30-day scoping period. There will be an additional public participation opportunity when the draft EA is available.

ADDRESSES: You may submit comments, issues and planning criteria related to the RMP Amendment/EA addressing livestock grazing in the SDNM by any of the methods outlined below:

• Internet: https://go.usa.gov/xp8W6

• Email: BLM_AZ_PDO_SDNMGrazing@blm.gov

• Fax: 623-580-5623

• Mail: BLM, Sonoran Desert National Monument, 21605 North 7th Avenue, Phoenix, AZ 85027

Documents pertinent to this proposal may be examined at the Phoenix District Office, 21605 North 7th Avenue, Phoenix, Arizona 85027.

FOR FURTHER INFORMATION CONTACT: Edward J. Kender, Lower Sonoran Field Office Manager, telephone 623-580-5616; address 21605 North 7th Avenue, Phoenix, Arizona 85027; email ekender@blm.gov. Contact Mr. Kender to have your name added to our mailing list. Persons who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION: This document provides notice that the BLM Lower Sonoran Field Office, Phoenix, Arizona, intends to prepare an RMP Amendment and associated EA addressing a 2016 court order in Western Watersheds Project v. BLM, 181 F.Supp.3d 673 (D.Ariz. 2016), requiring the compatibility of livestock grazing on the SDNM be reevaluated in a new Land Health Evaluation (LHE) and Grazing Compatibility Analysis (GCA). This notice announces the beginning of the scoping process to identify issues and planning criteria for the RMP Amendment/EA. The planning area is located in Maricopa and Pinal counties, Arizona, and encompasses approximately 252,472 acres of public land. The purpose of the public scoping process is to solicit comments to determine relevant issues that will influence the scope of the EA, including alternatives, and guide the planning process. Preliminary issues for the plan amendment area have been identified by BLM personnel and include: (1) Direct, indirect, and cumulative impacts from livestock grazing on monument objects and other resources; and (2) Impacts to local economies and livestock operators if the area is made available or unavailable for livestock grazing.

Preliminary planning criteria includes the following: (1) The RMP Amendment will cover BLM-administered public lands within the SDNM north of Interstate 8; (2) The EA will consider a range of reasonable alternatives; (3) The BLM will consider current scientific information, research, new technologies, and resource assessments, monitoring, and coordination; and (4) Decisions in the RMP Amendment will comply as appropriate with all applicable law, regulations, policy and guidance.

You may submit comments on issues in writing by using one of the methods listed in the ADDRESSES section above. Comments need to be submitted by the close of the 30-day scoping period.

The BLM will utilize and coordinate the NEPA scoping process to help fulfill the public involvement process under the National Historic Preservation Act (54 U.S.C. 306108) as provided in 36 CFR 800.2(d)(3). The information about historic and cultural resources within the area potentially affected by the alternatives will assist the BLM in identifying and evaluating impacts to such resources.

The BLM will consult with Indian tribes on a government-to-government basis in accordance with Executive Order 13175 and other policies. Tribal concerns, including potential impacts to cultural resources, will be given due consideration. Federal, State, and local agencies, along with tribes and other stakeholders that may be interested in or affected by the alternatives that the BLM is evaluating, are invited to participate in the scoping process and, if eligible, may request or be requested by the BLM to participate in the development of the RMP Amendment/EA as a cooperating agency.

Before including your address, phone number, email address, or other personal identifying information in your comment, you should be aware that your entire comment—including your personal identifying information—may be made publicly available at any time. While you can ask us in your comment to withhold your personal identifying information from public review, we cannot guarantee that we will be able to do so. In the RMP Amendment/EA, the BLM will address the comments received during scoping and sort them into one of three categories for consideration:

1. Issues to be resolved in the LHE and GCA;

2. Issues to be resolved in the RMP Amendment/EA;

3. Issues beyond the scope of this RMP Amendment/EA.

The BLM will summarize the scoping effort and comments received in the Draft RMP Amendment/EA. The public is also encouraged to help identify any management questions and concerns that should be addressed in the RMP Amendment/EA. The BLM will work with interested parties to identify management decisions that are best suited to local, regional, and national needs and concerns.

The BLM will use an interdisciplinary approach to develop the RMP Amendment/EA in order to consider the variety of resource issues and concerns identified. Specialists with expertise in the following disciplines that may be involved in the RMP Amendment/EA process include: National Conservation Lands, outdoor recreation, archaeology, wildlife, rangeland management, soils, and socioeconomics.

(Authority: 40 CFR 1501.7 and 43 CFR 1610.2)

Raymond Suazo,
State Director.

[FR Doc. 2020-06363 Filed 3-25-20; 8:45 am]

BILLING CODE 4310-32-P